DEPARTMENT OF THE INTERIOR

Bureau of Land Management

[LLAK920000-L19100000-BJ0000-LRCS46810000]

Notice of Filing of Plats of Survey, Alaska

AGENCY: Bureau of Land Management, Interior.

ACTION: Notice.

SUMMARY: Notice of Filing of Plats of Survey, Alaska.

DATES: The Alaska State Office, Bureau of Land Management, Anchorage, Alaska, must receive comments on or before September 30, 2010.

ADDRESS: Bureau of Land Management, Alaska State Office; 222 W. 7th Ave., Stop 13; Anchorage, AK 99513-7599.

FOR FURTHER INFORMATION CONTACT: Stephen B. Hamrick, 907-271-5481, fax 907-271-4549, e-mail shamrick@blm.gov.

SUPPLEMENTARY INFORMATION: This survey of an Indian Allotment held in trust status and located approximately 18 miles northerly of Talkeetna, Alaska, was executed at the request of the Bureau of Indian Affairs, Alaska Region. The lands surveyed are: The dependent resurvey and subdivision of the SW1/4 of the SE1/4 of section 32, Township 29 North, Range 5 West, Seward Meridian, Alaska, into Lots 5, 6 and 7.

The plat will be available for viewing in the BLM Public Room located on the first floor of the Federal Building; 222 W. 7th Ave., Anchorage, AK 99513-7599. Copies may be obtained for a minimum recovery fee. The plat will not be officially filed until the day after BLM has accepted or dismissed all protests and they have become final, including decisions on appeals.

Before including your address, phone number, e-mail address, or other personal identifying information in your comment, you should be aware that your entire comment—including your personal identifying information—may be made publicly available at any time. While you can ask us in your comment to withhold your personal identifying information from public review, we cannot guarantee that we will be able to do so.

Authority: 43 U.S.C. 3; 53.

Stephen B. Hamrick,
Chief Cadastral Surveyor.

[FR Doc. 2010-21640 Filed 8-30-10; 8:45 am]

BILLING CODE 4310-JA-P